DEPARTMENT OF THE INTERIOR

Bureau of Land Management

[ID-300-2824-DS-PJ04]

Notice of Availability of Fire, Fuels and Related Vegetation Management Direction Proposed Plan Amendment and Final Environmental Impact Statement

AGENCY: Bureau of Land Management, Interior.

ACTION: Notice of Availability of Fire, Fuels, and Related Vegetation Management Direction Proposed Plan Amendment (FMDA) and Final Environmental Impact Statement (FEIS).

SUMMARY: The Burley and the Shoshone Field Offices of the Twin Falls District and the Pocatello and Upper Snake Field Offices of the Idaho Falls District of the Bureau of Land Management (BLM), located in south-central and eastern Idaho, have prepared a proposed land use plan amendment and environmental impact statement to establish management guidance and objectives for vegetation resources as they relate to fire and fuels. This planning process is in conformance with the National Environmental Policy Act of 1969 (NEPA), the Federal Land Policy and Management Act of 1976 (FLPMA), and the Federal Wildland Fire Management Policy of 1995, as revised. The Proposed Plan Amendment is Alternative E, developed in response to public comment. Alternative E, which emphasizes protection and restoration of both rangeland and forest resources, is also considered to be the environmentally preferred alternative.

DATES: No decision on the proposed plan will be made for at least 30 days after the Environmental Protection Agency publishes its Notice of Availability of this Final EIS in the Federal Register. BLM regulations (43 CFR 1610.5-2) state that any person who participated in the planning process and has an interest that may be adversely affected may protest the BLM's approval of the FMDA FEIS. The protest must be filed within 30 days of the date that the Environmental Protection Agency publishes its Notice of Availability.

Instructions for filing protests with the BLM are included in the Dear Reader letter of the FMDA FEIS and in the SUPPLEMENTARY INFORMATION section of this notice.

ADDRESSES: Copies of the FEIS are available upon request from the Pocatello Field Office, Bureau of Land Management, 4350 Cliffs Drive, Pocatello, Idaho 83204, phone 208-478-6340, or at http://www.blm.gov/id/st/en/prog/planning/firefuels_and_related.html via the internet. Upon request additional copies in both paper and digital format are available in limited numbers.

FOR FURTHER INFORMATION CONTACT: Terry Lee Smith, FMDA Project Manager, 4350 Cliffs Drive, Pocatello, Idaho 83204, phone 208-478-6392, email Terry_Lee_Smith@blm.gov.

SUPPLEMENTARY INFORMATION: Copies of the FMDA FEIS have been sent to affected Tribes, Federal, State, and local government agencies and to interested parties. The FMDA FEIS was developed with broad public participation through a five year collaborative planning process. It addresses management on approximately 5 million acres of public land comprising the Burley, Shoshone, Pocatello and Upper Snake Field Offices in south-central and eastern Idaho.

The FMDA FEIS would incorporate the National Fire Plan's Cohesive Strategy and the Federal Wildland Fire Management Policy into existing BLM land use plans. The FEIS displays the environmental effects of implementing those amended plans. The purpose of the proposed fire management plan amendments is to:

• Establish fire management guidance, objectives, policies, and management actions;

• Identify resource goals and methods, including desired future condition of the fire-related vegetation resources, and management actions necessary to achieve objectives;

• Form the basis to update fire management plans and integrate them with allotment management plans, wildlife management plans, recreation management plans, Idaho Standards for Rangeland Health and Guidelines for Livestock Grazing, and other applicable plans, to the greatest extent possible; and

• Provide consistent land use plan level direction to enable incremental steps toward a long-term resource goal of conditions that minimize risk to human life and property and maintain or restore vegetation that is resistant to catastrophic wildfire.

Five alternatives were analyzed in the FEIS. Alternative A, the No Action alternative, reflects current Land Use Plan direction, emphasizes wildland fire suppression, and minimizes the use of wildland fire for resource benefit. Alternative B emphasizes the increased use of fire, including prescribed fire and wildland fire use to more closely approximate the historical role of fire and the preparation of sites for restoration treatments. Alternative C identifies full implementation of the Cohesive Strategy from the National Fire Plan (treats more acres with prescribed fire than the other alternatives). Alternative D focuses on maintaining or restoring the sagebrush steppe ecosystem and its associated wildlife species, including sage grouse. Alternative E, the proposed plan amendment, proposes maintaining or restoring the sagebrush steppe ecosystem and its associated wildlife species, including sage grouse as well as the maintenance and restoration of forested vegetation types.

The Draft Plan Amendment/DEIS was released to the public on November 5, 2004 for a 90-day public comment period. Copies of the Draft Plan Amendment/DEIS were mailed to interested publics, the document was posted on the BLM Idaho internet site, news releases were published in area local newspapers announcing the availability of the document. In early December 2004, public meetings were held in Idaho Falls, Pocatello, Boise, and Twin Falls, Idaho to facilitate public review and comment by providing summary information and answering questions during the public comment period. Based on public comments, Alternative E was developed from a combination of Alternative D with the forested vegetation component of Alternative C to provide an alternative that focuses on the fire management needs of both forested and rangeland vegetation types. Alternative E is analyzed in the FMDA FEIS.

Instructions for filing a protest with the Director of the BLM regarding the FMDA FEIS may be found at 43 CFR 1610.5-2. Electronic mail and facsimile protests will be considered only if the protesting party provides BLM with the original letter by either regular or overnight mail postmarked by the close of the protest period. Under those conditions, the BLM will consider the electronic or faxed version as an advance copy, and it will receive full consideration. If you wish to provide the BLM with such advance notification, please direct faxed protests to the attention of the BLM Protest Coordinator at (202) 452-5112 and electronic mails to Brenda_Hudgens-Williams@blm.gov. All protests, including the follow-up letter (if electronically mailed or faxed) must be in writing and mailed to one of the following addresses:

Regular Mail, Director (210), Attn: Brenda Hudgens-Williams, P.O. Box 66538, Washington, DC 20036.

Overnight Mail, Director (210), Attn: Brenda Hudgens-Williams, 1620 L Street, NW., Suite 1075, Washington, DC 20036.

Before including your address, phone number, e-mail address, or other personal identifying information in your protest, you should be aware that your entire protest—including your personal identifying information—may be made publicly available at any time. While you can ask us in your protest to withhold your personal identifying information from public review, we cannot guarantee that we will be able to do so.

Thomas H. Dyer,
Bureau of Land Management, Idaho State Director.

[FR Doc. E8-3784 Filed 2-27-08; 8:45 am]

BILLING CODE 4310-GG-P